FEDERAL RESERVE SYSTEM

Change in Bank Control Notices; Formations of, Acquisitions by, and Mergers of Bank Holding Companies; Correction

This notice corrects a notice (FR Doc. 2016-21009) published on pages 60354 of the issue for Thursday, September 1, 2016.

Under the Federal Reserve Bank of Chicago heading, the entry for The Stephen L. LaFrance, Jr. GW Investments Trust, the Jason P. LaFrance GW Investments Trust, the Amy Beth LaFrance GW Investments Trust, all of Little Rock, Arkansas, Stephen L. LaFrance, Jr., Little Rock, Arkansas, as trustee of the Stephen L. LaFrance, Jr. GW Investments Trust and co-trustee of the Jason P. LaFrance GW Investments Trust, and Jason P. LaFrance, Little Rock, Arkansas, as co-trustee of the Jason P. LaFrance GW Investments Trust and as trustee of the Amy Beth LaFrance GW Investments Trust and the Amy LaFrance Bancroft GW Investments Revocable Trust, Little Rock, Arkansas is revised to read as follows:

A. Federal Reserve Bank of Chicago (Colette A. Fried, Assistant Vice President) 230 South LaSalle Street, Chicago, Illinois 60690-1414:

1. The Stephen L. LaFrance, Jr. GW Investments Trust, the Jason P. LaFrance GW Investments Trust, the Amy Beth LaFrance GW Investments Trust, all of Little Rock, Arkansas, Stephen L. LaFrance, Jr., Little Rock, Arkansas, as trustee of the Stephen L. LaFrance, Jr. GW Investments Trust and co-trustee of the Jason P. LaFrance GW Investments Trust, and Jason P. LaFrance, Little Rock, Arkansas, as co-trustee of the Jason P. LaFrance GW Investments Trust and as trustee of the Amy Beth LaFrance GW Investments Trust and the Amy LaFrance Bancroft GW Investments Revocable Trust, Little Rock, Arkansas, and Daniel B. Andrews, Sherwood, Arkansas; to acquire voting shares of Greenwoods Financial Group, Inc., Lake Mills, Wisconsin, and thereby join the existing LaFrance Family Control Group that was approved to acquire 10 percent or more of the outstanding shares of Greenwoods Financial Group, Inc. Greenwoods Financial Group, Inc. controls The Greenwood's State Bank, Lake Mills, Wisconsin.

Comments on this application must be received by September 16, 2016.

Board of Governors of the Federal Reserve System, September 1, 2016.
Robert deV. Frierson,
Secretary of the Board.

[FR Doc. 2016-21505 Filed 9-7-16; 8:45 am]

BILLING CODE 6210-01-P